SOCIAL SECURITY ADMINISTRATION

Privacy Act of 1974 as Amended; Computer Matching Program (SSA/Individual Law Enforcement Agencies)—Match Number 5001

AGENCY: Social Security Administration (SSA).

ACTION: Notice of computer matching program.

SUMMARY: In accordance with the provisions of the Privacy Act, as amended, this notice announces a computer matching program that SSA plans to conduct with individual law enforcement agencies.

DATES: SSA will file a report of the subject matching program with the Committee on Governmental Affairs of the Senate, the Committee on Government Reform of the House of Representatives and the Office of Information and Regulatory Affairs, Office of Management and Budget (OMB). The matching program will be effective as indicated below.

ADDRESSES: Interested parties may comment on this notice by either telefax to (410) 966-2935 or writing to the Acting Associate Commissioner for Program Support, 2-Q-16 Operations Building, 6401 Security Boulevard, Baltimore, MD 21235-6401. All comments received will be available for public inspection at this address.

FOR FURTHER INFORMATION CONTACT: The Acting Associate Commissioner for Program Support as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Furnish detailed reports about matching programs to Congress and OMB;

(4) Notify applicants and beneficiaries that their records are subject to matching; and

(5) Verify match findings before reducing, suspending, terminating or denying an individual's benefits or payments.

B. SSA Computer Matches Subject to the Privacy Act

We have taken action to ensure that all of SSA's computer matching programs comply with the requirements of the Privacy Act, as amended.

Dated: January 4, 2002.
Frederick G. Streckewald,
Acting Assistant Deputy Commissioner for Disability and Income Security Programs.

Notice of Computer Matching Program, Social Security Administration (SSA) With Individual Law Enforcement Agencies

A. Participating Agencies

SSA and Source Jurisdiction.

B. Purpose of the Matching Program

This agreement establishes conditions under 5 U.S.C. 552a, as amended, for a matching operation that will identify individuals who are both fugitive felons or parole or probation violators from the Source Jurisdiction and are also Supplemental Security Income (SSI) recipients. Such individuals may be receiving benefits or payments improperly. The disclosure will provide SSA and the Office of the Inspector General for SSA with information about fugitive felons or parole or probation violators who are also SSI recipients. The SSI program was created under title XVI of the Social Security Act (“Act”) to provide benefits to individuals with income and resources below levels established by law and regulations.

C. Authority for Conducting the Matching Program

Sections 1106, 1611(e)(4) and (5) of the Act (42 U.S.C. 1306, 1382 (e)(4)and (5)).

D. Categories of Records and Individuals Covered by the Matching Program

The Source Jurisdiction will provide SSA with electronic files/records compiled from various databases. These records will identify individuals for SSA who come under the definition of fugitive felons or the definition of probation or parole violators set out in the matching agreement. The incoming Source Jurisdiction records will be matched against the following systems of records to identify individuals potentially subject to termination of benefit or payment eligibility under applicable requirements of the above-described benefit program: SSA's Supplemental Security Income Record and Special Veterans Benefits (SSA 60-0103) and Master Files of Social Security Number (SSN) Holders and SSN Applications (SSA 60-0058).

E. Inclusive Dates of the Matching Program

The matching program will become effective upon signing of the agreement by both parties to the agreement and approval of the agreement by SSA's Data Integrity Board, but no sooner than 30 days after notice of this matching program is sent to Congress and the Office of Management and Budget, or 30 days after publication of this notice in the Federal Register, whichever date is later. The matching program will continue for 18 months from the effective date and may be extended for an additional 12 months thereafter, if certain conditions are met.

[FR Doc. 02-666 Filed 1-9-02; 8:45 am]

BILLING CODE 4191-02-U